DEPARTMENT OF TRANSPORTATION

Federal Highway Administration

23 CFR Part 655

[FHWA Docket No. FHWA-2001-8846]

RIN 2125-AE83

Revision of the Manual on Uniform Traffic Control Devices; Accessible Pedestrian Signals

AGENCY: Federal Highway Administration (FHWA), DOT.

ACTION: Final rule.

SUMMARY: The FHWA is adopting as final an interim rule that amends the 2000 Millennium Edition of the Manual on Uniform Traffic Control Devices (MUTCD) to revise the guidance and supporting information relating to the decisionmaking process concerning accessible pedestrian signals in Parts 1 and 4 of the MUTCD. The MUTCD is incorporated by reference in 23 CFR part 655, subpart F, and recognized as the national standard for traffic control devices used on all public roads.

EFFECTIVE DATE: August 29, 2002.

FOR FURTHER INFORMATION CONTACT: Mr. W. Scott Wainwright, Office of Transportation Operations, Room 3408, (202) 366-0857, or Mr. Raymond Cuprill, Office of the Chief Counsel, Room 4230, (202) 366-0791, Federal Highway Administration, 400 Seventh Street, SW., Washington, DC 20590-0001. Office hours are from 7:45 a.m. to 4:15 p.m., e.t., Monday through Friday, except Federal holidays.

SUPPLEMENTARY INFORMATION:

Electronic Access

Internet users may access all comments received by the U.S. DOT Docket Facility, Room PL-401, by using the universal resource locator (URL) http://dms.dot.gov. It is available 24 hours each day, 365 days each year. Please follow the instructions online for more information and help.

An electronic copy of this document may also be downloaded by using a computer, modem and suitable communications software from the Government Printing Office's Electronic Bulletin Board Service at (202) 512-1661. Internet users may also reach the Office of the Federal Register's home page at http://www.nara.gov/fedreg and the Government Printing Office's web page at http:///access.gpo.gov/nara.

Background

The FHWA published an interim final rule of Revision No. 1 on February 15, 2002, at 67 FR 7073. This interim final rule revised the guidance and supporting information relating to the decisionmaking process concerning accessible pedestrian signals in Parts 1 and 4 of the MUTCD. Additionally, in the interim final rule, the FHWA provided a 60-day comment period for the public to review and make comment on the necessary changes to the pertinent electronic files on the FHWA's MUTCD Internet site (http://mutcd.fhwa.dot.gov) to comply with section 508 of the Rehabilitation Act of 1973 (29 U.S.C. 794d).

The text of this Revision No. 1 and the text of the 2000 Millennium Edition of the MUTCD with Revision No. 1 text incorporated are available for inspection and copying as prescribed in 49 CFR part 7 at the FHWA Office of Transportation Operations. Furthermore, Revision No. 1 changes are available on the MUTCD Internet site (http://mutcd.fhwa.dot.gov). The entire MUTCD text with Revision No. 1 text incorporated is also available on this Internet site.

Summary of Comments

The FHWA received no comments to the docket in response to the interim final rule, concerning either the text of the Revision No. 1 or the changes made to electronic files to comply with Section 508 of the Rehabilitation Act of 1973. Therefore, this final rule adopts the interim final rule without change as an amendment to the 2000 Millennium Edition of the MUTCD as Revision No. 1. This final rule revises the guidance and supporting information relating to the decisionmaking process concerning accessible pedestrian signals in Parts 1 and 4 of the MUTCD.

Rulemaking Analyses and Notices

Executive Order 12866 (Regulatory Planning and Review) and U.S. DOT Regulatory Policies and Procedures

The FHWA has determined that this action is not a significant regulatory action within the meaning of Executive Order 12866 or significant within the meaning of the U.S. Department of Transportation regulatory policies and procedures. The economic impact of this rulemaking will be minimal. The changes in this final rule provide additional guidance and support information relating to the decisionmaking process concerning whether or not to install accessible pedestrian signals. The FHWA believes that the uniform application of traffic control devices will greatly improve the traffic operations efficiency and roadway safety. The standards, guidance, and support are also used to create uniformity and to enhance safety and mobility at little additional expense to public agencies or the motoring public. Therefore, a full regulatory evaluation is not required.

Regulatory Flexibility Act

In compliance with the Regulatory Flexibility Act (Pub. L. 96-354, 5 U.S.C. 601-612) the FHWA has evaluated the effects of this action on small entities. This final rule only revises guidance and support information related to the decisionmaking process concerning accessible pedestrian signals in the MUTCD. The changes are intended to improve traffic operations and safety, to expand guidance, and to clarify the application of traffic control devices as related to accessible pedestrian signals. For these reasons, the FHWA certifies that this action will not have a significant economic impact on a substantial number of small entities.

Unfunded Mandates Reform Act of 1995

This rule does not impose unfunded mandates as defined by the Unfunded Mandates Reform Act of 1995 (Pub. L. 104-4, March 22, 1995, 109 Stat. 48). This rule will not result in the expenditure by State, local, and tribal governments, in the aggregate, or by the private sector, of $100 million or more in any one year (2 U.S.C. 1531 et seq.)

Executive Order 13132 (Federalism)

This action has been analyzed in accordance with the principles and criteria contained in Executive Order 13132, and the FHWA has determined that this action does not have a substantial direct effect or sufficient federalism implications on States and local governments that would limit the policymaking discretion of the States and local governments. This action merely adds guidance and supporting information for the decisionmaking process concerning whether or not to install accessible pedestrian signals. The FHWA has also determined that this action does not preempt any State law or State regulation or affect the States' ability to discharge traditional State governmental functions.

Executive Order 13175 (Tribal Consultation)

The FHWA has analyzed this action under Executive Order 13175, dated November 6, 2000, and believes that it will not have substantial direct effects on one or more Indian tribes; will not impose substantial direct compliance costs on Indian tribal governments; and will not preempt tribal law. This action merely adds guidance and supporting information for the decisionmaking process concerning whether or not to install accessible pedestrian signals. Therefore, a tribal summary impact statement is not required.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this action does not contain a collection of information requirement for the purposes of PRA.

Executive Order 12988 (Civil Justice Reform)

This action meets applicable standards in Sections 3(a) and 3(b)(2) of Executive Order 12988, Civil Justice Reform, to minimize litigation, to eliminate ambiguity, and to reduce burden.

Executive Order 13045 (Protection of Children)

The FHWA has analyzed this action under Executive Order 13045, Protection of Children from Environmental Health Risks and Safety Risks. This is not an economically significant action and does not concern an environmental risk to health or safety that may disproportionately affect children.

Executive Order 12630 (Taking of Private Property)

This action would not effect a taking of private property or otherwise have taking implications under Executive Order 12630, Governmental Actions and Interference with Constitutionally Protected Property Rights.

Executive Order 13211 (Energy Effects)

We have analyzed this final rule under Executive Order 13211, Actions Concerning Regulations That Significantly Affect Energy Supply, Distribution, or Use. We have determined that it is not a significant regulatory action under Executive Order 12866 and is not likely to have a significant adverse effect on the supply, distribution, or use of energy. Therefore, a Statement of Energy Effects under Executive Order 13211 is not required.

National Environmental Policy Act

The agency has analyzed this action for the purpose of the National Environmental Policy Act of 1969 (42 U.S.C. 4321 et seq.) and has determined that it will not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 655

Design standards, Grant programs—Transportation, Highways and roads, Incorporation by reference, Signs, Traffic regulations.

PART 655—TRAFFIC OPERATIONS

Subpart F—Traffic Control Devices on Federal-Aid and Other Streets and Highways

In consideration of the foregoing and under the authority of 23 U.S.C. 101(a), 104, 109(d), 114(a), 217, 315, and 402(a); 23 CFR 1.32; and 49 CFR 1.48(b), the interim final rule amending 23 CFR Part 655, Subpart F which was published at 67 FR 7073 on February 15, 2002, is adopted as a final rule without change.

Issued on: July 24, 2002.
Mary E. Peters,
Federal Highway Administrator.

[FR Doc. 02-19142 Filed 7-29-02; 8:45 am]

BILLING CODE 4910-22-P